SOCIAL SECURITY ADMINISTRATION

20 CFR Parts 404 and 416

[Docket No. SSA-2018-0026]

RIN 0960-AI27

Rules Regarding the Frequency and Notice of Continuing Disability Reviews; Withdrawal

AGENCY: Social Security Administration.

ACTION: Proposed rule; withdrawal.

SUMMARY: We are withdrawing the Notice of Proposed Rulemaking (NPRM), Rules Regarding the Frequency and Notice of Continuing Disability Reviews, published in the Federal Register on November 18, 2019.

DATES: The proposed rule, published at 84 FR 63588, November 18, 2019, identified in this document is withdrawn as of July 28, 2021.

ADDRESSES: Office of Regulations and Reports Clearance, Social Security Administration, 3100 West High Rise Building, 6401 Security Boulevard, Baltimore, Maryland 21235-6401.

FOR FURTHER INFORMATION CONTACT: Michael J. Goldstein, Director, Office of Medical Policy, Social Security Administration, 6401 Security Boulevard, Baltimore, MD 21235-6401, (410) 965-1020. For information on eligibility or filing for benefits, call our national toll-free number, 1-800-772-1213, or TTY 1-800-325-0778, or visit our internet site, Social Security Online, at http://www.socialsecurity.gov.

SUPPLEMENTARY INFORMATION: On November 18, 2019, we proposed to revise our regulations regarding when and how often we conduct continuing disability reviews (CDR), which are periodic reviews of eligibility required for benefit continuation.¹ The proposed rules would have added a category to the existing medical diary categories that we use to schedule CDRs, and would have revised the criteria for assigning each of the medical diary categories to cases. The proposed rules would also have changed the frequency with which we perform a CDR for claims involving permanent impairments.

¹ 84 FR 63588 (November 18, 2019).

In this proposed rule, we provided a 60-day comment period, which we extended for 15 days, concluding on January 31, 2020.² We received 125,552 comments during the comment cycle.³ The total comment count reflects electronic submissions through the eRulemaking portals at the Office of the Federal Register and Regulations.gov, as well as emailed, mailed, and faxed comments. We did not make 181 comments available. These 181 comments were submitted after the comment period closed; included personally identifiable information or profanity; were unrelated to the rulemaking subject matter; or were submitted by individuals commenting in their capacity as Social Security Administration (SSA) employees.

² 84 FR 67394 (December 10, 2019).

³ The comments are available for public viewing at www.regulations.gov by searching Docket No SSA-2018-0026.

The Office of Management and Budget conducted 11 listening sessions under the authority of Executive Order (E.O.) 12866 during December 2020 and January 2021 for interested stakeholders, many of whom also provided thoughtful and relevant comments during the NPRM comment period. We appreciate all the commenters who provided thoughtful feedback on their analysis of, and concerns about, the proposed rule.

Withdrawal of the Proposed Rule

After considering the submitted comments and further feedback provided in the listening sessions, we are withdrawing the proposed rule, Rules Regarding the Frequency and Notice of Continuing Disability Reviews (84 FR 63588, November 18, 2019) (RIN 0960-AI27). We noted our intent to withdraw the proposed rule in our Spring 2021 Unified Agenda of Regulatory and Deregulatory Actions.⁴

⁴ Our Unified Agenda of Regulatory and Deregulatory Actions is available on Reginfo.gov and can be accessed at https://www.reginfo.gov/public/do/eAgendaMain.

(Catalog of Federal Domestic Assistance Program Nos. 96.001, Social Security Disability Insurance; 96.002, Social Security Retirement Insurance; 96.004, Social Security Survivors Insurance; 96.006, Supplemental Security Income).

List of Subjects

20 CFR Part 404

Administrative practice and procedure, Blind, Disability benefits, Old-age, Survivors and Disability insurance, Reporting and recordkeeping requirements, Social security.

20 CFR Part 416

Administrative practice and procedure, Reporting and recordkeeping requirements, Social security, Supplemental Security Income (SSI).

The Acting Commissioner of the Social Security Administration, Kilolo Kijakazi, having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2021-15896 Filed 7-27-21; 8:45 am]

BILLING CODE P